DEPARTMENT OF ENERGY

Federal Energy Regulatory Commission

18 CFR Part 381

[Docket No. RM06-15-000]

Annual Update of Filing Fees

March 10, 2006.

AGENCY: Federal Energy Regulatory Commission, DOE.

ACTION: Final rule; annual update of Commission filing fees.

SUMMARY: In accordance with 18 CFR 381.104, the Commission issues this update of its filing fees. This notice provides the yearly update using data in the Commission's Management, Administrative, and Payroll System to calculate the new fees. The purpose of updating is to adjust the fees on the basis of the Commission's costs for Fiscal Year 2005.

DATES: Effective Date: April 17, 2006.

FOR FURTHER INFORMATION CONTACT: Elizabeth Misiewicz, Office of the Executive Director, Federal Energy Regulatory Commission, 888 First Street, NE., Room 4R-03, Washington, DC 20426, 202-502-6240.

SUPPLEMENTARY INFORMATION:

Document Availability

In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington DC 20426.

From FERC's Web site on the Internet, this information is available in the eLibrary (formerly FERRIS). The full text of this document is available on eLibrary in PDF and Microsoft Word format for viewing, printing, and/or downloading. To access this document in eLibrary, type the docket number excluding the last three digits of this document in the docket number field and follow other directions on the search page.

User assistance is available for eLibrary and other aspects of FERC's Web site during normal business hours. For assistance, contact FERC Online Support at FERCOnlineSupport@ferc.gov or toll free at (866) 208-3676, or for TTY, contact (202) 502-8659.

Annual Update of Filing Fees in Part 381

The Federal Energy Regulatory Commission (Commission) is issuing this notice to update filing fees that the Commission assesses for specific services and benefits provided to identifiable beneficiaries. Pursuant to 18 CFR 381.104, the Commission is establishing updated fees on the basis of the Commission's Fiscal Year 2005 costs. The adjusted fees announced in this notice are effective April 17, 2006. The Commission has determined, with the concurrence of the Administrator of the Office of Information and Regulatory Affairs of the Office of Management and Budget, that this final rule is not a major rule within the meaning of section 251 of Subtitle E of Small Business Regulatory Enforcement Fairness Act, 5 U.S.C. 804(2). The Commission is submitting this final rule to both houses of the United States Congress and to the Comptroller General of the United States.

The new fee schedule is as follows:

Fees Applicable to the Natural Gas Policy Act
1. Petitions for rate approval pursuant to 18 CFR 284.123(b)(2). (18 CFR 381.403) | $9,900
Fees Applicable to General Activities
1. Petition for issuance of a declaratory order (except under Part I of the Federal Power Act). (18 CFR 381.302(a)) | $19,890
2. Review of a Department of Energy remedial order:
Amount in controversy
$0-9,999. (18 CFR 381.303(b)) | $100
$10,000-29,999. (18 CFR 381.303(b)) | $600
$30,000 or more. (18 CFR 381.303(a)) | $29,040
3. Review of a Department of Energy denial of adjustment:
Amount in controversy
$0-9,999. (18 CFR 381.304(b)) | $100
$10,000-29,999. (18 CFR 381.304(b)) | $600
$30,000 or more. (18 CFR 381.304(a)) | $15,230
4. Written legal interpretations by the Office of General Counsel. (18 CFR 381.305(a)) | $5,700
Fees Applicable to Natural Gas Pipelines
1. Pipeline certificate applications pursuant to 18 CFR 284.224. (18 CFR 381.207(b)) | * $1,000
Fees Applicable to Cogenerators and Small Power Producers
1. Certification of qualifying status as a small power production facility. (18 CFR 381.505(a)) | $17,110
2. Certification of qualifying status as a cogeneration facility. (18 CFR 381.505(a)) | $19,360
3. Applications for exempt wholesale generator status. (18 CFR 381.801) | $920
* This fee has not been changed.

List of Subjects in 18 CFR Part 381

Electric power plants, Electric utilities, Natural gas, Reporting and recordkeeping requirements.

Thomas R. Herlihy,
Executive Director.

In consideration of the foregoing, the Commission amends part 381, chapter I, title 18, Code of Federal Regulations, as set forth below.

PART 381—FEES

1. The authority citation for part 381 continues to read as follows:

Authority: 15 U.S.C. 717-717w; 16 U.S.C. 791-828c, 2601-2645; 31 U.S.C. 9701; 42 U.S.C. 7101-7352; 49 U.S.C. 60502; 49 App. U.S.C. 1-85.

§ 381.302 [Amended]

2. In 381.302, paragraph (a) is amended by removing “$19,410” and inserting “$19,890” in its place.

§ 381.303 [Amended]

3. In 381.303, paragraph (a) is amended by removing “$28,330” and inserting “$29,040” in its place.

§ 381.304 [Amended]

4. In 381.304, paragraph (a) is amended by removing “$14,850” and inserting “$15,230” in its place.

§ 381.305 [Amended]

5. In 381.305, paragraph (a) is amended by removing “$5,560” and inserting “$5,700” in its place.

§ 381.403 [Amended]

6. Section 381.403 is amended by removing “$9,660” and inserting “$9,900” in its place.

§ 381.505 [Amended]

7. In 381.505, paragraph (a) is amended by removing “$16,690” and inserting “$17,110” in its place and by removing “$18,890” and inserting “$19,360” in its place.

§ 381.801 [Amended]

8. Section 381.801 is amended by removing “$890” and inserting “$920” in its place.

[FR Doc. 06-2587 Filed 3-16-06; 8:45 am]

BILLING CODE 6717-01-P